DEPARTMENT OF COMMERCE

International Trade Administration

[C-428-848]

Forged Steel Fluid End Blocks From Germany: Final Results of the Countervailing Duty Administrative Review; 2022

AGENCY: Enforcement and Compliance, International Trade Administration, Department of Commerce.

SUMMARY: The U.S. Department of Commerce (Commerce) determines that countervailable subsidies were provided to BGH Edelstahl Siegen GmbH (BGH), a producer and exporter of forged steel fluid end blocks (fluid end blocks) from Germany. The period of review (POR) is January 1, 2022, through December 31, 2022.

DATES: Applicable August 8, 2024.

FOR FURTHER INFORMATION CONTACT: Rachel Accorsi or Bob Palmer, AD/CVD Operations, Office VIII, Enforcement and Compliance, International Trade Administration, Department of Commerce, 1401 Constitution Avenue NW, Washington, DC 20230; telephone: (202) 482-3149 or (202) 482-9068, respectively.

SUPPLEMENTARY INFORMATION:

Background

On February 7, 2024, Commerce published the Preliminary Results.¹ For a detailed description of the events that occurred subsequent to the Preliminary Results, see the Issues and Decision Memorandum.² On May 1, 2024, in accordance with section 751(a)(3)(A) of the Tariff Act of 1930, as amended (the Act), Commerce extended the deadline for issuing the final results until July 26, 2024.³ On July 22, 2024, Commerce tolled certain deadlines in this administrative proceeding by seven days.⁴ The deadline for the final results is now August 2, 2024.

¹ See Forged Steel Fluid End Blocks from the Federal Republic of Germany: Preliminary Results and Partial Recission of the Countervailing Duty Administrative Review; 2022, 89 FR 8407 (February 7, 2024) (Preliminary Results), and accompanying Preliminary Decision Memorandum (PDM).

² See Memorandum, “Decision Memorandum for the Final Results of the Countervailing Duty Administrative Review of Forged Steel Fluid End Blocks from Germany; 2022,” dated concurrently with, and hereby adopted by, this notice (Issues and Decision Memorandum).

³ See Memorandum, “Extension of Deadline for the Final Results of Countervailing Duty Administrative Review; 2022,” dated May 1, 2024.

⁴ See Memorandum, “Tolling of Deadlines for Antidumping and Countervailing Duty Proceedings,” dated July 22, 2024.

Scope of the Order ⁵

⁵ See Forged Steel Fluid End Blocks from the People's Republic of China, the Federal Republic of Germany, India, and Italy: Countervailing Duty Orders, and Amended Final Affirmative Countervailing Duty Determination for the People's Republic of China, 86 FR 7535 (January 29, 2021) (Order).

The products covered by the Order are fluid end blocks from Germany. A full description of the scope of the Order is contained in the Issues and Decision Memorandum.

Analysis of Comments Received

All issues raised by interested parties in briefs are addressed in the Issues and Decision Memorandum. A list of the issues addressed in the Issues and Decision Memorandum is provided in an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review of the record and comments received from interested parties regarding our Preliminary Results, we made certain revisions to the countervailable subsidy rate calculations for BGH Edelstahl Siegen GmbH (BGH).⁶ These changes are explained in the Issues and Decision Memorandum.

⁶ See Memorandum, “Final Results Calculations for BGH Edelstahl Siegen GmbH.,” dated concurrently with this notice.

Methodology

Commerce conducted this review in accordance with section 751(a)(1)(A) of the Act. For each of the subsidy programs found countervailable, we find that there is a subsidy, i.e., a government-provided financial contribution that gives rise to a benefit to the recipient, and that the subsidy is specific.⁷ The Issues and Decision Memorandum contains a full description of the methodology underlying Commerce's conclusions, including any determination that relied upon the use of adverse facts available pursuant to sections 776(a) and (b) of the Act.

⁷ See sections 771(5)(B) and (D) of the Act regarding financial contribution; section 771(5)(E) of the Act regarding benefit; and section 771(5A) of the Act regarding specificity.

Verification

As provided in section 782(i) of the Act, in May 2024, Commerce conducted verification of the subsidy information reported by BGH. We used standard verification procedures, including an examination of relevant sales and accounting records, and original source documents provided by the respondents.⁸

⁸ See Memorandum, “Verification of the Questionnaire Responses of BGH Edelstahl Siegen GmbH,” dated June 7, 2024.

⁹ Commerce found the following companies to be cross-owned with BGH Edelstahl Siegen GmbH: Boschgotthardshütte O. Breyer GmbH, BGH Edelstahlwerke GmbH, RPS Rohstoff-, Press- und Schneidbetrieb Siegen GmbH, and SRG Schrott und Recycling GmbH.

Final Results of Review

As a result of this review, we determine the following net countervailable subsidy rate for the POR January 1, 2022, through December 31, 2022:

Company | Subsidy rate (percent ad valorem)
BGH Edelstahl Siegen GmbH ⁹ | 2.75

Disclosure

We intend to disclose the calculations performed in connection with the final results of review to parties in this proceeding within five days of the date of publication of this notice in the Federal Register in accordance with 19 CFR 351.224(b).

Assessment Rates

Pursuant to section 751(a)(2)(C) of the Act and 19 CFR 351.212(b), Commerce has determined, and U.S. Customs and Border Protection (CBP) shall assess, countervailing duties on all appropriate entries of subject merchandise in accordance with the final results of this review, for BGH at the applicable ad valorem assessment rates listed for the POR (i.e., January 1, 2022, to December 31, 2022). Commerce intends to issue assessment instructions to CBP for these companies no earlier than 35 days after the publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce intends to instruct CBP to collect cash deposits of estimated countervailing duties in the amounts shown for the POR for BGH Siegen listed above on shipments of subject merchandise entered, or withdrawn from warehouse, for consumption on or after the date of publication of the final results of this administrative review. For all non-reviewed firms subject to the Order, we will instruct CBP to continue to collect cash deposits of estimated countervailing duties at the most recent company-specific or all-others rate applicable to the company, as appropriate. These cash deposit requirements, effective upon publication of the final results of review, shall remain in effect until further notice.

Administrative Protective Order (APO)

This notice also serves as a reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review and notice in accordance with sections 751(a)(1) and 777(i) of the Act and 19 CFR 351.221(b)(5).

Dated: August 2, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Subsidies Valuation

V. Analysis of Programs

VI. Discussion of the Issues

Comment 1: Whether Commerce Erred by Deferring Analysis of the Reductions in Section 19 StromNEV Surcharge

Comment 2: Whether Commerce Incorrectly Found the KfW 292 Energy Efficiency and 295 Energy and Resource Efficiency in Business Loan Programs To Be Countervailable

Comment 3: Whether Commerce Should Find the Changes to the 2018 Special Equalization Scheme—Reduced EEG Surcharge Program To Be an Additional Countervailable Subsidy

Comment 4: Whether Commerce Incorrectly Found the SES Reduced Surcharge Programs To Be Countervailable

Comment 5: Whether Commerce Incorrectly Found the Concession Fee Ordinance Relief Program To Be Countervailable

Comment 6: Whether Commerce Incorrectly Found the Electricity Tax Act and the Energy Tax Act Programs To Be Countervailable

Comment 7: Whether Commerce Incorrectly Found the EU ETS To Be Countervailable

Comment 8: Whether Commerce Incorrectly Found the EU ETS—Compensation of Indirect CO2 Costs Program To Be Countervailable

VII. Recommendation

[FR Doc. 2024-17635 Filed 8-7-24; 8:45 am]

BILLING CODE 3510-DS-P